DEPARTMENT OF TRANSPORTATION

Federal Railroad Administration

[Docket Number FRA-2015-0139]

Petition for Waiver of Compliance

In accordance with part 211 of Title 49 Code of Federal Regulations (CFR), this document provides the public notice that by a document dated September 22, 2015, the National Railroad Passenger Corporation (Amtrak) has petitioned the Federal Railroad Administration (FRA) for a waiver of compliance from certain provisions of the Federal railroad safety regulations contained at 49 CFR part 238, Passenger Equipment Safety Standards. FRA assigned the petition Docket Number FRA-2015-0139.

Amtrak seeks a temporary waiver of compliance from the requirements of 49 CFR 238.115(b)(1)(2), which covers “marking and instructions for emergency egress and rescue access,” and references APTA PR-E-S_013-99, Rev. 1, “Standard for Emergency Lighting System Design for Passenger Cars,” for a period of 12 months until December 31, 2016. Amtrak is seeking this temporary relief as it works to bring 70 percent of its passenger rolling stock fleet that was ordered prior to September 8, 2000, and placed in service prior to September 9, 2002, into compliance with the emergency lighting requirements. Amtrak justifies the need for this deadline extension because it will need to test between 201 and 408 cars across its fleets located at multiple locations spanning geographic areas from the East Coast to the West Coast as outlined in its petition. Amtrak indicates that this 70-percent modification goal may require modification to as many as 1,200 of the passenger cars listed in its petition (the comprehensive listing of equipment includes Acela, TALGO, Surfliners, Comets, Heritage, Superliner 1, Superliner 2, Amfleet 1, Amfleet 2, Viewliner, Horizon, Metroliner, LDSL, and various inspection cars).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number FRA-2015-0139 and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 25, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-00202 Filed 1-8-16; 8:45 am]

BILLING CODE 4910-06-P